SOCIAL SECURITY ADMINISTRATION

Agency Information Collection Activities: Comment Request

The Social Security Administration (SSA) publishes a list of information collection packages that will require clearance by the Office of Management and Budget (OMB) in compliance with Public Law 104-13, the Paperwork Reduction Act of 1995, effective October 1, 1995. The information collection package included in this notice is for approval of a new information collection.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed and/or faxed to the individuals at the addresses and fax numbers listed below:

(OMB), Office of Management and Budget, Attn: Desk Officer for SSA, Fax: 202-395-6974.

(SSA), Social Security Administration, DCFAM, Attn: Reports Clearance Officer, 1333 Annex Building, 6401 Security Blvd., Baltimore, MD 21235. Fax: 410-965-6400.

E-mail: OPLM.RCO@ssa.gov.

The information collection listed below has been submitted to OMB for clearance. Your comments on the information collection would be most useful if received by OMB and SSA within 30 days from the date of this publication. You can obtain a copy of the OMB clearance package by calling the SSA Reports Clearance Officer at 410-965-0454, or by writing to the address listed above.

Section 107 Representative Payee Study—0960-NEW. As mandated by Section 107 of the Social Security Protection Act of 2004, the Social Security Administration is sponsoring an independently conducted study evaluating the Representative Payee Program. In this study, selected groups of SSA beneficiaries and representative payees will be interviewed about their experiences within the program. These two groups' responses will then be compared and contrasted. A re-contact study will also be conducted with 100 of the representative payees. The ultimate purpose of the study is to evaluate the knowledge level and performance of representative payees vis-à-vis the standards established for them by SSA. The respondents are recipients of SSA benefits (adults and youth ages 14-17) and representative payees (individuals and organizations).

Note: Please note that both the organization and numbers in the burden chart are different than those in the 60-day Federal Register Notice. The reason for this change is that the contractors who are conducting this study have made slight alterations to their study plan since the 60-day Notice was published.

Type of Request: New information collection.

Beneficiary Burden Information
| Number of respondents | Frequency of response | Average burden per response (minutes) | Estimated annual burden (hours)
Advance Pre-Screening Letter | 2,565 | 1 | 5 | 214
Screening Process | Same group as above | 1 | 10 | 428
Survey Interview | Same group as above | 1 | 30 | 1,283
Totals | 2,565 |  |  | 1,925

Representative Payee Burden Information
| Number of respondents | Frequency of response | Average burden per response (minutes) | Estimated annual burden (hours)
Advance Pre-Screening Letter | 5,130 | 1 | 5 | 428
Screening Process | Same group as above | 1 | 10 | 855
Survey Interview | Same group as above | 1 | 40 | 3,420
Re-Contact Interview | 100 (a sample from the above group) | 1 | 60 | 100
Totals | 5,130 |  |  | 4,803

Total Burden Hours: 6,728 hours.

Dated: April 14, 2006.
Elizabeth A. Davidson,
Reports Clearance Officer, Social Security Administration.

[FR Doc. E6-5899 Filed 4-19-06; 8:45 am]

BILLING CODE 4191-02-P